DEPARTMENT OF VETERANS AFFAIRS

Performance Review Board Members

AGENCY: Department of Veterans Affairs.

ACTION: Notice.

SUMMARY: Under the provisions of 5 U.S.C. 4314(c)(4) agencies are required to publish a notice in the Federal Register of the appointment of Performance Review Board (PRB) members. This notice revises the list of members of the Department of Veterans Affairs (VA) Performance Review Boards which was published in the Federal Register on September 25, 2000 (65 FR 57655).

EFFECTIVE DATE: October 12, 2001.

FOR FURTHER INFORMATION CONTACT: Angel I. Wolfrey, Office of Human Resources Management (052B), Department of Veterans Affairs, 810 Vermont Avenue, NW., Washington, DC 20420, (202) 273- 4940.

VA Performance Review Board (PRB)

Jacob Lozada, Ph.D., Assistant Secretary for Human Resources and Administration (Chairperson)

Nora E. Egan, Chief of Staff

Stanley R. Sinclair, Action Deputy Under Secretary for Benefits, Veterans Benefits Administration

John H. Thompson, Deputy General Counsel

Frances M. Murphy, M.D., M.P.H., Deputy Under Secretary for Health, Veterans Health Administration

James S. Jones, Deputy Assistant Secretary for Resolution Management

Maureen P. Cragin, Assistant Secretary for Public and Intergovernmental Affairs

D. Mark Catlett, Principal Deputy Assistant Secretary for Management

Michael G. Sullivan, Deputy Inspector General

Roger R. Rapp, Deputy Under Secretary for Operations, National Cemetery System

Michael Walcoff, Associate Deputy Under Secretary for Operations, Veterans Benefits Administration (Alternate)

Laura Miller, Assistant Deputy Under Secretary for Health (Alternate)

Vincent L. Barile, Deputy Under Secretary for Management, National Cemetery System (Alternate)

Veterans Benefits Administration PRB

Stanley R. Sinclair, Acting Deputy Under Secretary for Benefits, (Chairperson)

Robert J. Epley, Associate Deputy Under Secretary for Policy & Program Management

R. Keith Pedigo, Jr., Director, Loan Guaranty Service

Michael Walcoff, Associate Deputy Under Secretary for Operations

James A. Whitson, Associate Deputy Under Secretary for Operations

Julius M. Williams, Jr., Director, Vocational Rehabilitation and Counseling Service

Ronald R. Aument, Deputy Chief of Staff, Secretary's Representative

Veterans Benefits Administration PRB

Frances M. Murphy, M.D. M.P.H., Deputy Under Secretary for Health (Chairperson)

Laura J. Miller, Assistant Deputy Under Secretary for Health (Vice-Chairperson)

Terrence S. Batliner, D.D.S., Network Director, VISN 19

Alfonso R. Batres, Ph.D., Chief Readjustment Counseling Officer

Linda W. Belton, Network Director, VISN 11

Lawrence A. Biro, Network Director, VISN 4

Jeanette A. Chirico-Post, MD., Network Director, VISN 11

Jose R. Coronado, Acting Network Director, VISN 17

Gary A. Christopherson, Chief Information Officer

Patricia A. Crosetti, Network Director, VISN 15

Joan E. Cummings, M.D., Network Director, VISN 12

John Dandridge, Jr., Network Director, VISN 9

Larry R. Deal, Network Director, VISN 7

James H. Holley, Chief Communications Officer

James B. Donahoe, Director, Veterans Canteen Service

James J. Farsetta, Network Director, VISN 3

John R. Feussner, M.D., Chief Research and Development Officer

Stephanie H. Pincus, M.D., M.B.A., Chief Academic Affiliations Officer

William T. Galey, M.D., Network Director, VISN 20

Daniel F. Hoffmann, Network Director, VISN 6

Thomas J. Hogan, Director, Management Support Office (Ex Officio)

Thomas V. Holohan, M.D., Chief Patient Care Services Officer

Smith Jenkins, Jr., Network Director, VISN 18

Robert E. Lynch, M.D., Network Director, VISN 16

Susan H. Mather, M.D., M.P.H., Chief Public Health and Environmental Hazards Officer

Frederick L. Malphurs, Network Director, VISN 2

Steven M. Cohen, M.D., Acting Network Director, VISN 10

Kenneth J. Clark, Network Director, VISN 22

James J. Nocks, M.D., Network Director, VISN 5

Jimmy A. Norris, Chief Financial Officer

Gregg A. Pane, M.D., M.P.A., Chief Policy and Planning Officer

Robert A. Petzel, M.D., Network Director, VISN 13

Jonathan B. Perlin, M.D., Ph.D., M.S.H.A., Chief Quality and Performance Officer

Robert H. Roswell, M.D., Network Director, VISN 8

Robert L. Wiebe, M.D., Network Director, VISN 21

Gary L. Wilkinson, Acting Network Director, VISN 14

Charles V. Yarbrough, Chief Facilities Management Officer

Thomas J. Sanders, Acting VHA Chief of Staff

Ronald R. Aument, Deputy Chief of Staff, Secretary's Representative

Office of Inspector General PRB

David A. Brinkman, Director, Audit Followup Directorate, Department of Defense (Chairperson)

Nancy Hendricks, Assistant Inspector General for Audit, Federal Emergency Management Agency

George Grob, Deputy Inspector General for Evaluation and Inspections, Department of Health and Human Services

Dated: October 4, 2001.
Anthony J. Principi,
Secretary of Veterans Affairs.

[FR Doc. 01-25748 Filed 10-11-01; 8:45 am]

BILLING CODE 8320-01-M